COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products from the Procurement List that were furnished by nonprofit agencies employing persons who are blind or have other severe disabilities.

DATES: Comments must be received on or before: October 28, 2018.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products are proposed for deletion from the Procurement List:

Products

NSN(s)—Product Name(s): MR 830—Spinner, Salad

Mandatory Source of Supply: Cincinnati Association for the Blind, Cincinnati, OH

Contracting Activity: Defense Commissary Agency

NSN(s)—Product Name(s): MR 467—Grocery Shopping Tote Bag, Laminated, Easter, Orange Eggs, Small

Mandatory Source of Supply: Industries for the Blind and Visually Impaired, Inc., West Allis, WI

Contracting Activity: Defense Commissary Agency

NSN(s)—Product Name(s): 8540-00-NIB-0040—Towel, Paper, C-Fold, 100% PCRM, 4″ x 10″1/4″, White, 7 Bundles

Mandatory Source of Supply: LC Industries, Inc., Durham, NC

Contracting Activity: GSA/FAS ADMIN SVCS ACQUISITION BR(2, NEW YORK, NY

NSN(s)—Product Name(s):

7530-00-NIB-0556—Folder, Classification

7530-00-NIB-0552—Folder, Classification

Mandatory Source of Supply: Clovernook Center for the Blind and Visually Impaired, Cincinnati, OH

Contracting Activity: GSA/FAS ADMIN SVCS ACQUISITION BR (2, NEW YORK, NY

NSN(s)—Product Name(s): 7520-01-643-8193—Retractable, Ballpoint Pen and Stylus, Medium, Black Ink

Mandatory Source of Supply: Industries of the Blind, Inc., Greensboro, NC

Contracting Activity: GSA/FAS ADMIN SVCS ACQUISITION BR(2, NEW YORK, NY

NSN(s)—Product Name(s): 7930-00-NIB-0127—Cleaner, Commercial Vehicle, Skilcraft Savvy TR-43, Gallon

7930-00-NIB-0142—Cleaner, Commercial Vehicle, Skilcraft Savvy TR-43, 5 Gallons

7930-00-NIB-0143—Cleaner, Commercial Vehicle, Skilcraft Savvy TR-43, 55 Gallons

Mandatory Source of Supply: VisionCorps, Lancaster, PA

Contracting Activity: GSA/FSS GREATER SOUTHWEST ACQUISITI, FORT WORTH, TX

NSN(s)—Product Name(s): 7110-01-622-1763—White Board, Dry Erase, Magnetic, Work/Plan Kit, Aluminum Frame, 6′ x 4′

7110-01-622-1763—White Board, Dry Erase, Magnetic, Work/Plan Kit, Aluminum Frame, 6′ x 4′

7110-01-622-1764—White Board, Dry Erase, Magnetic, Work/Plan Kit, Aluminum Frame, 4′ x 3′

Mandatory Source of Supply: The Lighthouse for the Blind, Inc. (Seattle Lighthouse), Seattle, WA

Contracting Activity: GSA/FAS FURNITURE SYSTEMS MGT DIV, PHILADELPHIA, PA

Michael R. Jurkowski,
Business Management Specialist.

[FR Doc. 2018-21182 Filed 9-27-18; 8:45 am]

BILLING CODE 6353-01-P